DEPARTMENT OF AGRICULTURE

Food Safety and Inspection Service

[Docket No. FSIS-2016-0012]

International Standard-Setting Activities

AGENCY: Office of Food Safety, USDA.

ACTION: Notice.

SUMMARY: This notice informs the public of the sanitary and phytosanitary standard-setting activities of the Codex Alimentarius Commission (Codex), in accordance with section 491 of the Trade Agreements Act of 1979, as amended, and the Uruguay Round Agreements Act. This notice also provides a list of other standard-setting activities of Codex, including commodity standards, guidelines, codes of practice, and revised texts. This notice, which covers Codex activities during the time periods from June 1, 2015, to May 31, 2016, and June 1, 2016, to May 31, 2017, seeks comments on standards under consideration and recommendations for new standards.

ADDRESSES: FSIS invites interested persons to submit their comments on this notice. Comments may be submitted by one of the following methods:

• Federal eRulemaking Portal: This Web site provides the ability to type short comments directly into the comment field on this Web page or attach a file for lengthier comments. Go to http://www.regulations.gov. Follow the on-line instructions at the Web site for submitting comments.

• Mail, including CD-ROMs, etc.: Mail to the U.S. Department of Agriculture (USDA), FSIS, 1400 Independence Avenue SW., Mailstop 3782, Room 8-163B, Washington, DC 20250-3700.

• Hand- or courier-delivered items: Deliver to OPPD, RIMS, Docket Clearance Unit, Patriots Plaza 3, 355 E Street SW., Room 8-164, Washington, DC 20250-3700.

Instructions: All items submitted by mail or email are to include the Agency name and docket number FSIS-2016-0012. Comments received in response to this docket will be made available for public inspection and posted without change, including any personal information to http://www.regulations.gov.

Please state that your comments refer to Codex and, if your comments relate to specific Codex committees, please identify the committee(s) in your comments and submit a copy of your comments to the delegate from that particular committee.

Docket: For access to background documents or comments received, visit the FSIS Docket Room at Patriots Plaza 3, 355 E Street SW., Room 8-164, Washington, DC 20250-3700, between 8:00 a.m. and 4:30 p.m., Monday through Friday. A complete list of U.S. delegates and alternate delegates can be found in Attachment 2 of this notice.

FOR FURTHER INFORMATION CONTACT: Mary Frances Lowe, United States Manager for Codex Alimentarius, U.S. Department of Agriculture, Office of Food Safety, South Agriculture Building, 1400 Independence Avenue SW., Room 4861, Washington, DC 20250-3700; Telephone: (202) 205-7760; Fax: (202) 720-3157; Email: USCodex@fsis.usda.gov.

For information pertaining to particular committees, contact the delegate of that committee. Documents pertaining to Codex and specific committee agendas are accessible via the Internet at http://www.codexalimentarius.org/meetings-reports/en/. The U.S. Codex Office also maintains a Web site at http://www.fsis.usda.gov/wps/portal/fsis/topics/international-affairs/us-codex-alimentarius.

SUPPLEMENTARY INFORMATION:

Background

The World Trade Organization (WTO) was established on January 1, 1995, as the common international institutional framework for the conduct of trade relations among its members in matters related to the Uruguay Round Trade Agreements. The WTO is the successor organization to the General Agreement on Tariffs and Trade (GATT). United States membership in the WTO was approved and the Uruguay Round Agreements Act (Uruguay Round Agreements) was signed into law by the President on December 8, 1994, Public Law 103-465, 108 Stat. 4809. The Uruguay Round Agreements became effective, with respect to the United States, on January 1, 1995. The Uruguay Round Agreements amended the Trade Agreements Act of 1979. Pursuant to section 491 of the Trade Agreements Act of 1979, as amended, the President is required to designate an agency to be “responsible for informing the public of the sanitary and phytosanitary (SPS) standard-setting activities of each international standard-setting organization” (19 U.S.C. 2578). The main international standard-setting organizations are Codex, the World Organisation for Animal Health, and the International Plant Protection Convention. The President, pursuant to Proclamation No. 6780 of March 23, 1995, (60 FR 15845), designated the U.S. Department of Agriculture as the agency responsible for informing the public of the SPS standard-setting activities of each international standard-setting organization. The Secretary of Agriculture has delegated to the Office of Food Safety the responsibility to inform the public of the SPS standard-setting activities of Codex. The Office of Food Safety has, in turn, assigned the responsibility for informing the public of the SPS standard-setting activities of Codex to the U.S. Codex Office (USCO).

Codex was created in 1963 by two United Nations organizations, the Food and Agriculture Organization (FAO) and the World Health Organization (WHO). Codex is the principal international organization for establishing standards for food. Through adoption of food standards, codes of practice, and other guidelines developed by its committees and by promoting their adoption and implementation by governments, Codex seeks to protect the health of consumers, ensure fair practices in the food trade, and promote coordination of food standards work undertaken by international governmental and nongovernmental organizations. In the United States, U.S. Codex activities are managed and carried out by the United States Department of Agriculture (USDA); the Food and Drug Administration (FDA), Department of Health and Human Services (HHS); the National Oceanic and Atmospheric Administration (NOAA), Department of Commerce (DOC); and the Environmental Protection Agency (EPA).

As the agency responsible for informing the public of the SPS standard-setting activities of Codex, the Office of Food Safety publishes this notice in the Federal Register annually. Attachment 1 (Sanitary and Phytosanitary Activities of Codex) sets forth the following information:

1. The SPS standards under consideration or planned for consideration; and

2. For each SPS standard specified:

a. A description of the consideration or planned consideration of the standard;

b. Whether the United States is participating or plans to participate in the consideration of the standard;

c. The agenda for United States participation, if any; and

d. The agency responsible for representing the United States with respect to the standard.

TO OBTAIN COPIES OF THE STANDARDS LISTED IN ATTACHMENT 1, PLEASE CONTACT THE CODEX DELEGATE OR THE U.S. CODEX OFFICE.

This notice also solicits public comment on standards that are currently under consideration or planned for consideration and recommendations for new standards. The delegate, in conjunction with the responsible agency, will take the comments received into account in participating in the consideration of the standards and in proposing matters to be considered by Codex.

The U.S. delegate will facilitate public participation in the United States Government's activities relating to Codex. The U.S. delegate will maintain a list of individuals, groups, and organizations that have expressed an interest in the activities of the Codex Committees and will disseminate information regarding U.S. delegation activities to interested parties. This information will include the status of each agenda item; the U.S. Government's position or preliminary position on the agenda items; and the time and place of planning meetings and debriefing meetings following the Codex committee sessions. In addition, the U.S. Codex Office makes much of the same information available through its Web page at http://www.fsis.usda.gov/wps/portal/fsis/topics/international-affairs/us-codex-alimentarius. If you would like to access or receive information about specific committees, please visit the Web page or notify the appropriate U.S. delegate or the U.S. Codex Office, Room 4861, South Agriculture Building, 1400 Independence Avenue SW., Washington, DC 20250-3700 (uscodex@fsis.usda.gov).

The information provided in Attachment 1 describes the status of Codex standard-setting activities by the Codex Committees for the time periods from June 1, 2015, to May 31, 2016, and June 1, 2016, to May 31, 2017. Attachment 2 provides a list of U.S. Codex Officials (including U.S. delegates and alternate delegates). A list of forthcoming Codex sessions may be found at: http://www.codexalimentarius.org/meetings-reports/en/.

Additional Public Notification

Public awareness of all segments of rulemaking and policy development is important. Consequently, FSIS will announce this Federal Register publication on-line through the FSIS Web page located at: http://www.fsis.usda.gov/federal-register.

FSIS also will make copies of this publication available through the FSIS Constituent Update, which is used to provide information regarding FSIS policies, procedures, regulations, Federal Register notices, FSIS public meetings, and other types of information that could affect or would be of interest to our constituents and stakeholders. The Update is available on the FSIS Web page. Through the Web page, FSIS is able to provide information to a much broader, more diverse audience. In addition, FSIS offers an email subscription service which provides automatic and customized access to selected food safety news and information. This service is available at: http://www.fsis.usda.gov/subscribe.

Options range from recalls to export information, regulations, directives, and notices. Customers can add or delete subscriptions themselves, and have the option to password protect their accounts.

Done at Washington, DC, on: June 27, 2016.
Paulo Almeida,
Acting U.S. Manager for Codex Alimentarius.

Attachment 1

Sanitary and Phytosanitary Activities of Codex

Codex Alimentarius Commission and Executive Committee

The Codex Alimentarius Commission will convene for its 39th Session June 27-July 1, 2016, in Rome, Italy. At that time, it will consider proposals for new work as well as proposed standards, codes of practice, and related matters forwarded to the Commission by the general subject committees, commodity committees, and regional coordinating committees for adoption as Codex standards and guidance. The Commission will also consider the relations between FAO and WHO policies, strategies and guidelines and Codex work; Codex work on antimicrobial resistance; FAO/WHO Scientific Support for Codex; and the FAO/WHO Project and Trust Fund for Enhanced Participation in Codex; and financial and budgetary issues.

Before the Commission meeting, the Executive Committee will meet at its 71st Session, June 20-23, 2016. It is composed of the chairperson; vice-chairpersons; seven members elected from the Commission from each of the following geographic regions: Africa, Asia, Europe, Latin America and the Caribbean, Near East, North America, and South-West Pacific; and regional coordinators from the six regional committees. Canada is the elected representative from North America; the United States will participate as an advisor. The Executive Committee will conduct a critical review of the elaboration of Codex standards and will consider the implementation status of the Codex Strategic Plan (2014-2019), preparation for the 2020-2025 Strategic Plan, Codex work on antimicrobial resistance, Codex work management and functioning of the Executive Committee, scientific support for Codex work, issues related to committees working by correspondence, and financial and budgetary issues.

Responsible Agency: USDA/FSIS/USCO.

U.S. Participation: Yes.

Codex Committee on Residues of Veterinary Drugs in Foods

The Codex Committee on Residues of Veterinary Drugs in Foods (CCRVDF) determines priorities for the consideration of residues of veterinary drugs in foods and recommends Maximum Residue Limits (MRLs) for veterinary drugs. The Committee also develops codes of practice, as may be required, and considers methods of sampling and analysis for the determination of veterinary drug residues in food. A veterinary drug is defined as any substance applied or administered to any food producing animal, such as meat or milk producing animals, poultry, fish, or bees, whether used for therapeutic, prophylactic or diagnostic purposes, or for modification of physiological functions or behavior.

A Codex Maximum Residue Limit (MRL) for residues of veterinary drugs is the maximum concentration of residue resulting from the use of a veterinary drug (expressed in mg/kg or ug/kg on a fresh weight basis) that is recommended by the Codex Alimentarius Commission to be permitted or recognized as acceptable in or on a food. Residues of a veterinary drug include the parent compounds or their metabolites in any edible portion of the animal product, and include residues of associated impurities of the veterinary drug concerned. An MRL is based on the type and amount of residue considered to be without any toxicological hazard for human health as expressed by the Acceptable Daily Intake (ADI) or on the basis of a temporary ADI that utilizes an additional safety factor. When establishing an MRL, consideration is also given to residues that occur in food of plant origin or the environment. Furthermore, the MRL may be reduced to be consistent with official recommended or authorized usage, approved by national authorities, of the veterinary drugs under practical conditions.

An ADI is an estimate made by the Joint FAO/WHO Expert Committee on Food Additives (JECFA) of the amount of a veterinary drug, expressed on a body weight basis, which can be ingested daily in food over a lifetime without appreciable health risk.

The Committee will convene its 23rd Session in Houston, Texas, October 17-21, 2016. The Committee plans to discuss the following items:

• Matters of Interest arising from FAO/WHO and from the 81st Meeting of the Joint FAO/WHO Expert Committee on Food Additives (JECFA);

• Report of the World Organisation for Animal Health (OIE) activities, including the harmonization of technical requirements for registration of veterinary medicinal products;

• Proposed draft Risk Management Recommendation (RMR) for gentian violet at Step 3;

• Proposed draft MRLs for ivermectin (cattle muscle) and lasalocid sodium (chicken, turkey, quail and pheasant kidney, liver, muscle, skin + fat) at Step 4;

• Proposed draft MRLs for ivermectin (cattle fat, kidney, muscle), teflubenzuron (salmon fillet, muscle) and zilpaterol hydrocholoride (cattle fat, kidney, liver, muscle) at Step 3;

• Discussion paper on unintended presence of residues of veterinary drugs in food commodities resulting from the carry-over of drug residues into feed;

• Discussion paper on the establishment of a rating system to establish priority for CCRVDF work;

• Global survey to provide information to the CCRVDF to move compounds from the database on countries' needs for MRLs to the JECFA Priority List (Report of EWG);

• Draft priority list of veterinary drugs requiring evaluation or re-evaluation by JECFA; and

• Other Business and Future Work.

Responsible Agencies: HHS/FDA/Center for Veterinary Medicine; USDA/FSIS.

U.S. Participation: Yes.

Codex Committee on Contaminants in Foods

The Codex Committee on Contaminants in Foods (CCCF) establishes or endorses permitted maximum levels (MLs) or guideline levels for contaminants and naturally occurring toxicants in food and feed; prepares priority lists of contaminants and naturally occurring toxicants for risk assessment by the Joint FAO/WHO Expert Committee on Food Additives; considers and elaborates methods of analysis and sampling for the determination of contaminants and naturally occurring toxicants in food and feed; considers and elaborates standards or codes of practice for related subjects; and considers other matters assigned to it by the Commission in relation to contaminants and naturally occurring toxicants in food and feed.

The Committee convened for its 10th Session in Rotterdam, The Netherlands, April 4-8, 2016. The relevant document is REP16/CF. The following items are to be considered for adoption by the 39th Session of the Commission in June 2016:

To be considered for adoption at Step 8:

• Draft ML for inorganic arsenic in husked rice; and

• Draft revised Code of Practice for the Prevention and Reduction of Mycotoxin Contamination in Cereals (CAC/RCP 51-2003).

To be considered for adoption at Step 5/8:

• Proposed draft MLs for lead in fruit juices and nectars ready to drink (inclusion of passion fruit); canned fruits (inclusion of canned berries and other small fruits); canned vegetables (inclusion of canned leafy vegetables and canned legume vegetables); jams, jellies, and marmalades (lower ML and inclusion of marmalades); pickled cucumbers (lower ML); preserved tomatoes (lower ML and note on the application of a concentration factor); and table olives (lower ML); and

• Proposed draft annexes on zearalenone, fumonisins, ochratoxin A, trichothecenes and aflatoxins to the Code of Practice for the Prevention and Reduction of Mycotoxin Contamination in Cereals (CAC/RCP 51-2003).

The Committee will continue working on:

• Proposed draft annex on ergot and ergot alkaloids in cereal grains (Annex to the Code of Practice for the Prevention and Reduction of Mycotoxin Contamination in Cereals (CAC/RCP 51-2003);

• Outstanding issues related to the review of MLs for lead in selected fruits and vegetables (fresh and processed) and other selected food categories;

• Proposed draft Code of Practice for the Prevention and Reduction of Arsenic Contamination in Rice;

• Proposed draft MLs for cadmium in chocolate and cocoa-derived products;

• Proposed draft Code of Practice for the Prevention and Reduction of Mycotoxin Contamination in Spices and its annexes;

• Proposed draft MLs for total aflatoxins in ready to eat peanuts following the JECFA evaluation;

• Discussion paper on MLs for mycotoxins in spices;

• Discussion paper on methylmercury in tuna (fresh/frozen and canned) and in other fish species;

• Discussion paper on non-dioxin like PCBs in the Code of Practice for the Prevention and Reduction of Dioxins and Dioxin like PCB Contamination in Food and Feeds (CAC/RCP 62-2006);

• Pyrrolizidine Alkaloids following the outcome of the JECFA evaluation; and

• Priority list on contaminants and naturally occurring toxicants proposed for evaluation by JECFA.

Responsible Agencies: HHS/FDA; USDA/FSIS.

U.S. Participation: Yes.

Codex Committee on Food Additives

The Codex Committee on Food Additives (CCFA) establishes or endorses acceptable maximum levels (MLs) for individual food additives; prepares a priority list of food additives for risk assessment by the Joint FAO/WHO Expert Committee on Food Additives (JECFA); assigns functional classes to individual food additives; recommends specifications of identity and purity for food additives for adoption by the Codex Alimentarius Commission; considers methods of analysis for the determination of additives in food; and considers and elaborates standards or codes of practice for related subjects such as the labeling of food additives when sold as such. The 48th Session of the Committee convened in Xi'an, China, March 14-18, 2016. The relevant document is REP16/FA. Immediately prior to the Plenary Session, there was a two-day physical Working Group on the General Standard for Food Additives (GSFA) chaired by the United States.

The following items will be considered by the 39th Session of the Commission in June 2016:

To be considered for approval:

• Amendments to food additive provisions in commodity standards.

To be considered for adoption:

• Revised food additives section of the Standards for Cocoa Butter (CODEX STAN 86-1981), Chocolate and Chocolate Products (CODEX STAN 87-1981), Cocoa (Cacao) Mass (Cocoa/Chocolate liquor) and Cocoa Cake (CODEX STAN 141-1983) and Cocoa Powders (Cocoas) and Dry Mixtures of Cocoa and Sugars (CODEX STAN 105-1981);

• Revised food additive provisions of the GSFA related to the alignment of the four commodity standards for chocolate and chocolate products and the commodity standards identified by the Committee on Fish and Fishery Products (CCFFP); and

• Revised the food additive provision of the GSFA for benzoates in water-based flavored drinks in response to a recommendation from JECFA.

To be considered at Step 8 and 5/8:

• Draft and proposed draft food additive provisions of the GSFA.

To be considered at Step 5/8:

• Proposed draft specifications for the identity and purity of food additives;

• Proposed draft amendments to the International Numbering System (INS) for Food Additives (CAC/GL 36-1989);

• Proposed draft revision of food category 01.1 “Fluid milk and milk products” of the GSFA and consequential changes; and

• Proposed draft revision of Sections 4.1c and 5.1c of the General Standard for the Labeling of Food Additives When Sold as Such (CODEX STAN 107-1981).

The Committee will continue working on:

• Proposed draft food additive provisions of the GSFA (eWG led by the United States);

• Amendments to the INS for food additives; and

• Specifications for the Identity and Purity of Food Additives (82nd JECFA);

• Alignment of the food additive provisions of commodity standards and relevant provisions of the GSFA (eWG led by Australia and the United States);

• Recommendations on the use of food additives in wine and specific provisions for acidity regulators, stabilizers, and antioxidants (eWG led by France and Australia);

• Discussion paper on the management of CCFA work (China and United States);

• Discussion paper on the use of nitrates and nitrites (Netherlands);

• Proposal for additions and changes to the Priority List of Substances Proposed for Evaluation by JECFA;

• Information document on the GSFA; and

• Information document on food additive provisions in commodity standards.

The Committee also agreed to hold a physical Working Group on the GSFA immediately preceding the 49th Session of CCFA to be chaired by the United States. The group will discuss:

• The recommendations of the eWG on the GSFA on food additive provisions to be circulated for comment.

• The comments submitted in responses to a circular letter requesting information on the use and use levels of adipic acid.

• The new proposals and proposed revisions of food additive provisions in the GSFA.

Responsible Agency: HHS/FDA.

U.S. Participation: Yes.

Codex Committee on Pesticide Residues

The Codex Committee on Pesticide Residues (CCPR) is responsible for establishing maximum residue limits (MRLs) for pesticide residues in specific food items or in groups of food; establishing MRLs for pesticide residues in certain animal feeding stuffs moving in international trade where this is justified for reasons of protection of human health; preparing priority lists of pesticides for evaluation by the Joint FAO/WHO Meeting on Pesticide Residues (JMPR); considering methods of sampling and analysis for the determination of pesticide residues in food and feed; considering other matters in relation to the safety of food and feed containing pesticide residues; and establishing maximum limits for environmental and industrial contaminants showing chemical or other similarity to pesticides in specific food items or groups of food.

The 48th Session of the Committee met in Chongqing, China, April 25-30, 2016. The relevant document is REP16/PR. The following items will be considered at the 39th Session of the Codex Alimentarius Commission in June 2016:

To be considered for adoption at Step 5/8:

• Proposed draft MRLs for pesticides

The Committee will continue working on:

• Draft MRLs for pesticides

• Proposed draft MRLs for pesticides

• Draft revision to the Classification of Food and Feed (vegetable commodity groups: Group 015—Pulses)

• Proposed draft revision to the Classification of Food and Feed (selected commodity groups Group 015—Grasses of Cereal grains)

• Proposed draft revision to the Classification of Food and Feed (other vegetable commodity groups: Group 014—Legume vegetables, Group 011—Fruiting vegetables, cucurbits)

• Proposed draft revision to the Classification of Food and Feed:

1. Group 021—Grasses for sugars or syrup production and;

2. Group 024—Seeds for beverages and sweets.

• Proposed draft tables on examples of selection of representative commodities (for inclusion in the principles and guidance for the selection of representative commodities for the extrapolation of maximum residue limits for pesticides for commodity groups)

• Proposed draft Guidance on Performance Criteria for Methods of Analysis for the Determination of Pesticide Residues

• Establishment of Codex schedules and priority list of pesticides for evaluation by JMPR

• Discussion paper on the possible revision of the International Estimated Short-Term Intake (IESTI) equations

Responsible Agencies: EPA; USDA/FSIS.

U.S. Participation: Yes.

Codex Committee on Methods of Analysis and Sampling

The Codex Committee on Methods of Analysis and Sampling (CCMAS) defines the criteria appropriate to Codex Methods of Analysis and Sampling; serves as a coordinating body for Codex with other international groups working on methods of analysis and sampling and quality assurance systems for laboratories; specifies, on the basis of final recommendations submitted to it by the bodies referred to above, reference methods of analysis and sampling appropriate to Codex standards which are generally applicable to a number of foods; considers, amends if necessary, and endorses as appropriate, methods of analysis and sampling proposed by Codex commodity committees, except for methods of analysis and sampling for residues of pesticides or veterinary drugs in food, the assessment of microbiological quality and safety in food, and the assessment of specifications for food additives; elaborates sampling plans and procedures, as may be required; considers specific sampling and analysis problems submitted to it by the Commission or any of its Committees; and defines procedures, protocols, guidelines or related texts for the assessment of food laboratory proficiency, as well as quality assurance systems for laboratories.

The 37th Session of the Committee met in Budapest, Hungary, February 22-26, 2016. The relevant document is REP16/MAS. The following items will be considered by the Commission at its 39th Session in June 2016:

To be considered for adoption:

• Methods of Analysis and Sampling in Codex Standards; and

• Amendments to the Procedural Manual.

The Committee will continue working on:

• Guidance on the criteria approach for methods which use a “sum of components”;

• Criteria for endorsement of biological methods to detect chemicals of concern;

• Procedures for determining uncertainty of measurement results (improvements and amendments to CAC/GL-54-2004);

• Review general guidelines on sampling (CAC/GL 50-2004) for potential revision;

• Practical examples on the selection of appropriate sampling plans; and

• Review and update of methods in Codex STAN 234-1999.

The following items have been discontinued:

• Development of procedures/guidelines for determining equivalency of Type I methods.

Responsible Agencies: HHS/FDA; USDA/Grain Inspection, Packers and Stockyards Administration.

U.S. Participation: Yes.

Codex Committee on Food Import and Export Inspection and Certification Systems

The Codex Committee on Food Import and Export Inspection and Certification Systems (CCFICS) is responsible for developing principles and guidelines for food import and export inspection and certification systems, with a view to harmonizing methods and procedures that protect the health of consumers, ensure fair trading practices, and facilitate international trade in foodstuffs; developing principles and guidelines for the application of measures by the competent authorities of exporting and importing countries to provide assurance, where necessary, that foodstuffs comply with requirements, especially statutory health requirements; developing guidelines for the utilization, as and when appropriate, of quality assurance systems to ensure that foodstuffs conform with requirements and promote the recognition of these systems in facilitating trade in food products under bilateral/multilateral arrangements by countries; developing guidelines and criteria with respect to format, declarations, and language of such official certificates as countries may require with a view towards international harmonization; making recommendations for information exchange in relation to food import/export control; consulting as necessary with other international groups working on matters related to food inspection and certification systems; and considering other matters assigned to it by the Commission in relation to food inspection and certification systems.

The 22nd Session of the Committee convened in Melbourne, Australia, February 6-12, 2016. The relevant document is REP16/FICS. There following items will be considered by the Commission at its 39th Session in June 2016:

To be considered for adoption at Step 5/8:

• Proposed draft Principles and Guidelines for the Exchange of Information Between Importing and Exporting Countries to Support the Trade in Food;

• Proposed draft Revision of the Principles and Guidelines for the Exchange of Information in Food Safety Emergency Situations (CAC/GL 19-1995); and

• Proposed draft Revision of the Guidelines for the Exchange of Information Between Countries on Rejections of Imported Food (CAC/GL 25-1997).

To be considered for adoption at Step 5:

• Proposed draft Guidance for Monitoring the Performance of National Food Control Systems.

The Committee will continue working on:

• Discussion paper on the Use of Electronic Certificates by Competent Authorities and Migration to Paperless Certification;

• Discussion paper on Third Party Certification (with broad parameters);

• Discussion paper on Consideration of Emerging Issues and Future Directions for the Work of the Codex Committee on Food Import and Export Inspection and Certification Systems; and

• Discussion paper on Food Integrity/Food Authenticity As Emerging Issues.

Responsible Agencies: USDA/FSIS; HHS/FDA.

U.S. Participation: Yes.

Codex Committee on Food Labelling

The Codex Committee on Food Labelling (CCFL) drafts provisions on labeling applicable to all foods; considers, amends, and endorses draft specific provisions on labeling prepared by the Codex Committees drafting standards, codes of practice, guidelines; and studies specific labeling problems assigned by the Codex Alimentarius Commission. The Committee also studies problems associated with the advertisement of food with particular reference to claims and misleading descriptions.

The Committee convened for its 43rd Session in Ottawa, Ontario, Canada May 9-13, 2016.

There following items will be considered by the Commission at its 39th Session in June 2016:

To be considered for adoption at Step 5:

• Revision of the General Standard for the Labelling of Prepackaged Foods: Date marking.

The Committee proposed that the Codex Alimentarius Commission identify a more appropriate forum for the revision of the Guidelines for the Production, Processing, Labelling and Marketing of Organically Produced Foods: Organic Aquaculture

The Committee agreed to propose new work on:

• Guidance for the labelling of Non-retail containers

The Committee will continue to work on:

• Front of Pack Labelling;

• Consideration of issues surrounding consumer preference claims; and

• Discussion paper on future work for the Committee.

Responsible Agencies: HHS/FDA; USDA/FSIS.

U.S. Participation: Yes.

Codex Committee on Food Hygiene

The Codex Committee on Food Hygiene (CCFH):

• Develops basic provisions on food hygiene applicable to all food or to specific food types;

• Considers and amends or endorses provisions on food hygiene contained in Codex commodity standards and codes of practice developed by other Codex commodity committees;

• Considers specific food hygiene problems assigned to it by the Commission;

• Suggests and prioritizes areas where there is a need for microbiological risk assessment at the international level and develops questions to be addressed by the risk assessors; and

• Considers microbiological risk management matters in relation to food hygiene and in relation to FAO/WHO risk assessments.

The Committee convened for its 47th Session in Boston, Massachusetts, November 9-13, 2015. The relevant document is REP 16/FH. The following items will be considered by the Commission at its 39th Session in June 2016:

To be considered for adoption at Step 5/8:

• Guidelines for the Control of Non-Typhoidal Salmonella spp. in Beef and Pork Meat;

• Guidelines on the Application of General Principles of Food Hygiene to the Control of Foodborne Parasites; and

• Proposed draft Annex I “Examples of Microbiological Criteria for Low-Moisture Foods when Deemed Appropriate in accordance with the Principles and Guidelines for the Establishment and Application of Microbiological Criteria Related to Foods (CAC/GL 21-1997)” and Annex II “Guidance for the Establishment of Environmental Monitoring Programs for Salmonella app. And other Enterobacteriaceae in Low-Moisture Food Processing Areas” to the Code of Hygienic Practice for Low-Moisture Foods (CAC/RCP 75-2015).

To be considered for adoption at step 8:

• Draft Annex III “Spices and Dried Aromatic Herbs” to the Code of Hygienic Practice for Low-Moisture Foods (CAC/RCP 75-2015)

To be considered for revocation:

• Code of Hygienic Practice for Spices and Dried Aromatic Herbs (CAC/RCP 42-1995)

The Committee will continue working on:

• Compiling all guidance for the control of foodborne parasites into a single document, e.g., merging the General Principles of Food Hygiene to the Control of Foodborne Parasites and the Guidelines for the control of Trichinella spp. in meat of Suidae (CAC/GL 86-2015) and the Guidelines for the Control of Taenia saginata in meat of domestic cattle (CAC/GL 85-2014).

The Committee agreed to the following items for new work:

• Revision of the General Principles of Food Hygiene (CAC/RCP 1-1969) and its HACCP Annex;

• Revision of the Code of Hygienic Practice for Fresh Fruits and Vegetables (CAC/RCP 53-2003); and

• New work proposals/Forward Work plan.

Responsible Agencies: HHS/FDA; USDA/FSIS/.

U.S. Participation: Yes.

Codex Committee on Fresh Fruits and Vegetables

The Codex Committee on Fresh Fruits and Vegetables (CCFFV) is responsible for elaborating worldwide standards and codes of practice, as may be appropriate for fresh fruits and vegetables; for consulting as necessary, with other international organizations in the standards development process to avoid duplication.

The 19th Session of the Committee met in Ixtapa Zihuatanejo, Guerrero, Mexico October 5-9, 2015. The relevant document is REP 16/FFV. The following items will be considered at the 39th Session of the Codex Alimentarius Commission in June 2016.

To be considered for adoption at Step 5/8:

• Proposed draft Standard for Aubergines.

To be considered for adoption at Step 5:

• Proposed draft Standard for Garlic; and

• Proposed draft Standard for Kiwifruit.

The Committee will continue discussing the following items:

• Proposed draft Standard for Ware Potatoes;

• Proposals for new work for Codex standards for fresh fruits and vegetables;

• Layout for Codex standards for fresh fruits and vegetables;

• Selected provisions in the Layout for Codex/FFV standards pending further consideration by CCFFV; and

• Preparation of a draft Glossary of Terms for Application in the Layout for Codex Standards for Fresh Fruits and Vegetables.

Responsible Agencies: USDA/Agricultural Marketing Service (AMS); HHS/FDA.

U.S. Participation: Yes.

Codex Committee on Nutrition and Foods for Special Dietary Uses

The Codex Committee on Nutrition and Foods for Special Dietary Uses (CCNFSDU) is responsible for studying nutrition issues referred to it by the Codex Alimentarius Commission. The Committee also drafts general provisions, as appropriate, on nutritional aspects of all foods and develops standards, guidelines, or related texts for foods for special dietary uses in cooperation with other committees where necessary; considers, amends if necessary, and endorses provisions on nutritional aspects proposed for inclusion in Codex standards, guidelines, and related texts.

The Committee convened for its 37th Session in Bad Soden am Taunus, Germany, November 23-27, 2015. The reference document is REP 16/NFSDU. The following items will be considered by the Commission at its 39th Session in June 2016:

To be considered for adoption:

• Draft amendment to the Annex of the Guidelines on Nutrition Labelling (CAC/GL 2-1985) to add a definition for RASBs (i.e. Recognized Authoritative Scientific Body); and

• Draft amendment to Section 10, Methods of analysis in Standard for Infant Formula and Formulas for Special Medical Purposes Intended for Infants (Codex STAN 72-1981).

To be considered for adoption at Step 5/8:

• Proposed draft Additional or Revised Nutrient Reference Values for Labelling Purposes in the Guidelines on Nutrition Labelling (CAC/GL2-1985).

The Committee will continue working on:

• Proposed draft NRV-R for Vitamin D and the dietary equivalents and conversion factor for Vitamin E);

• Review if the Standard for Follow-Up Formula (CODEX STAN 156-1987) (Section 2.1.1 and 2.2 and essential composition and optional ingredients) (6-12 months);

• Review of the Standard for Follow-Up Formula (CODEX STAN 156-1987);

• Proposed draft Definition for Biofortification;

• Proposed draft NRV-NCD for EPA and DHA long chain omega-3 fatty acids;

• Proposed guideline for Ready-to-Use Foods (RUF);

• Discussion paper on Claim for “Free” of Trans Fatty Acids; and

• Alignment of Food Additive provisions in standards developed by CCNFSDU.

Responsible Agencies: HHS/FDA; USDA/Agricultural Research Service (ARS).

U.S. Participation: Yes.

Codex Committee on Fish and Fishery Products

The Fish and Fishery Products Committee (CCFFP) is responsible for elaborating standards for fresh, frozen and otherwise processed fish, crustaceans, and mollusks. The Committee convened for its 34th Session in Alesund, Norway October 19-24, 2015. The relevant document is REP16/FFP.

The following items will be considered by the 39th Session of the Commission in July 2016:

To be considered for approval:

• Sampling plans in the Standard for Live Abalone and for Raw, Fresh Chilled or Frozen Abalone for Direct Consumption or for Further Processing (CODEX STAN 312-2013); Standard for Smoked Fish, Smoked Flavored Fish and Smoke-Dried Fish (CODEX STAN 311-2013); and Standard for Fresh and Quick Frozen Raw Scallop Products (CODEX STAN 315-2014);

• Amendments to Food Additive Provisions in Standards for Fish and Fishery Products;

• Amendments to Section 7.4—Estimation of fish content of the Standard for Quick Frozen Fish Sticks (Fish Fingers), Fish Portions and Fish Fillets—Breaded or in Batter (CODEX STAN 166-1989); and

• Amendment to Section 11—Processing of salted and dried salted fish of the Code of Practice for Fish and Fishery Products (CAC/RCP52-2003).

The following items have recommended for discontinuation:

• Appendices 1-11 to the Code of Practice for Fish and Fishery Products (CAC/RCP 52-2003); and

• Proposal for a standard for fresh chilled pirarucu fillet or whole fish.

The Committee will continue working on:

• New work guidance for histamine control in the Code of Practice for Fish and Fishery Products (CAC/RCP 52-2003) and sampling plans for histamine in standards for fish and fishery products.

Responsible Agencies: HHS/FDA; DOC/NOAA/National Marine Fisheries Service (NMFS).

U.S. Participation: Yes.

Codex Committee on Fats and Oils

The Codex Committee on Fats and Oils (CCFO) is responsible for elaborating worldwide standards for fats and oils of animal, vegetable, and marine origin, including margarine and olive oil. The 25th Session of the Committee will meet in Kuala Lumpur, Malaysia, February 2017. The Committee will consider:

• Proposed draft Standard for Fish Oils;

• Amendments to Appendix 2 “List of Acceptable Previous Cargoes” of the Code of Practice for the Storage and Transport of Edible Fats and Oils in Bulk (CAC/RCP 36-1987);

• Addition of Palm Oil with High Oleic Acid (OxG);

• Revision of Fatty Acid Composition and Other Quality Factors of Peanut Oil;

• Revision of Limits of Oleic and Linoleic Acids in Sunflower Seed Oils; and

• Inclusion of provisions for Walnut Oil, Almond Oil, Hazelnut Oil, Pistachio Oil, Flaxseed Oil, and Avocado Oil.

Responsible Agencies: HHS/FDA; USDA/Agricultural Research Service (ARS).

U.S. Participation: Yes.

Codex Committee on Processed Fruits and Vegetables

The Codex Committee on Processed Fruits and Vegetables (CCPFV) is responsible for elaborating worldwide standards and related texts for all types of processed fruits and vegetables including, but not limited to canned, dried, and frozen products, as well as fruit and vegetable juices and nectars.

The Committee will convene its 28th Session in Washington, DC, September 12-16, 2016.

The committee will continue to discuss the following items:

• Proposed draft Annex on Canned Pineapples; and

• Proposed draft Annexes on Quick Frozen Vegetables. (Including methods of analysis for quick frozen vegetables)

• Amendments to food additive provisions in the standards for canned chestnuts and canned chestnut puree, canned bamboo shoots, canned mushrooms (certain canned vegetables), and pickles fruits and vegetables;

• Amendments to food additive and packing media provisions in Standard for Pickled Fruits and Vegetables;

• Status of work on the review/revision of Codex standards for processed fruits and vegetables; and

• Discussion paper on standardization of dry and dried produce.

Responsible Agencies: USDA/Agricultural Marketing Service; HHS/FDA.

U.S. Participation: Yes.

Codex Committee on Sugars

The Codex Committee on Sugars (CCS) elaborates worldwide standards for all types of sugars and sugar products.

The Committee has been reactivated electronically to work on a standard for Non-Centrifugated Dehydrated Sugar Cane Juice.

The following item will be considered by the Commission at its 39th Session in July 2016.

To be considered for adoption:

• Draft Standard for Non-Centrifugated Dehydrated Sugar Cane Juice at Step 6.

The Committee will continue working on:

• No additional work is ongoing in this Committee. It will again be adjourned sine die once the work on the Standard for Non-Centrifugated Dehydrated Sugar Cane Juice is adopted.

Responsible Agencies: HHS/FDA.

U.S. Participation: Yes.

Codex Committee on Cereals Pulses & Legumes

The Codex Committee on Cereals Pulses & Legumes (CCCPL) elaborates worldwide standards and/or codes of practice as appropriate for cereals, pulses and legumes and their products.

The Committee has been reactivated electronically to draft an international quality standard for Quinoa.

• No additional work is ongoing in this Committee. It will again be adjourned sine die once the work on the international quality standard for Quinoa is adopted.

Responsible Agencies: HHS/FDA.

U.S. Participation: Yes.

Codex Committee on Milk and Milk Products (CCMMP) elaborates worldwide standards, codes and related text for milk and milk products. The Committee has been reactivated to work by correspondence on a general standard for processed cheese, but has not reached consensus on that standard. The Commission at its 39th Session in June 2016 will consider next steps for the Committee to take on this draft standard.

Responsible Agencies: USDA/AMS.

U.S. Participation: Yes.

Certain Codex Commodity Committees

Several Codex Alimentarius Commodity Committees have adjourned sine die. The following Committees fall into this category:

• Cocoa Products and Chocolate—adjourned 2001

Responsible Agency: HHS/FDA.

U.S. Participation: Yes.

• Meat Hygiene—adjourned 2003

Responsible Agency: USDA/FSIS.

U.S. Participation: Yes.

• Natural Mineral Waters—adjourned 2008

Responsible Agency: HHS/FDA.

U.S. Participation: Yes.

• Vegetable Proteins—adjourned 1989

Responsible Agency: USDA/ARS.

U.S. Participation: Yes.

FAO/WHO Regional Coordinating Committees

The FAO/WHO Regional Coordinating Committees define the problems and needs of the regions concerning food standards and food control; promote within the Committee contacts for the mutual exchange of information on proposed regulatory initiatives and problems arising from food control and stimulate the strengthening of food control infrastructures; recommend to the Commission the development of worldwide standards for products of interest to the region, including products considered by the Committees to have an international market potential in the future; develop regional standards for food products moving exclusively or almost exclusively in intra-regional trade; draw the attention of the Commission to any aspects of the Commission's work of particular significance to the region; promote coordination of all regional food standards work undertaken by international governmental and non-governmental organizations within each region; exercise a general coordinating role for the region and such other functions as may be entrusted to it by the Commission; and promote the use of Codex standards and related texts by members.

There are six regional coordinating committees:

Coordinating Committee for Africa

Coordinating Committee for Asia

Coordinating Committee for Europe

Coordinating Committee for Latin America and the Caribbean

Coordinating Committee for the Near East

Coordinating Committee for North America and the South West Pacific

Coordinating Committee for Africa

The Committee (CCAfrica) will convene its 22nd Session January 16-20, 2017.

The Committee will discuss the following items:

• Proposed draft regional Standard for dried meat, if approved as new work by the Commission at its June 2016 session;

• Proposed draft Regional Standard for fermented cooked cassava based products;

• Proposed draft Regional Standard for Shea Butter; and

• Proposed draft Regional Standard for Gnetum Spp. Leaves.

Responsible Agency: USDA/FSIS/USCO.

U.S. Participation: Yes (as observer).

Coordinating Committee for Asia

The Committee (CCAsia) will convene its 20th Session in New Delhi, India, September 26-30, 2016.

The committee will discuss the following items:

• Key Note Address on Role of Codex in Strengthening National Food Control Systems in the Asian Region—A way forward;

• Food Safety and Quality Situation in the Countries of the Region;

• Prioritization of the Needs of the Region and Possible Approaches to Address Them;

• Use of Codex Standards in the Region: Relevance of Existing Regional Standards and Need for New Standards;

• Matters Arising from the Codex Alimentarius Commission and Other Codex Committees;

• Codex Work Relevant to the Region;

• Monitoring of the Implementation of the Codex Strategic Plan;

• Proposed draft Regional Standard for Laver Products;

• Proposed draft Regional Code of Hygienic Practice for Street-Vended Foods;

• Discussion paper on the Development of a Regional Standard for Makgeolli;

• Discussion paper on the Development of a Regional Standard for Natto; and

• Nomination of the Coordinator.

Responsible Agency: USDA/FSIS/USCO.

U.S. Participation: Yes (as observer).

Coordinating Committee for Europe

The Committee (CCEurope) will convene its 30th Session in Astana Kazakhstan, October 3-7, 2016.

The Committee will discuss the following items:

• Regional Strategic Plan for CCEURO

Responsible Agency: USDA/FSIS/USCO.

U.S. Participation: Yes (as observer).

Coordinating Committee for Latin America and the Caribbean

The Coordinating Committee for Latin America and the Caribbean (CCLAC) will convene its 20th Session in Chile, November 21-25, 2016.

The Committee will discuss the following items:

• Proposed draft Regional Standard for Yacon

Responsible Agency: USDA/FSIS/USCO.

U.S. Participation: Yes (as observer).

Coordinating Committee for the Near East

The Committee (CCNEA) will convene its 9th Session in Iran, February 20-24, 2017.

The Committee will discuss the following items:

• Regional Standard for Doogh;

• Proposed draft Regional Standard for Labneh;

• Proposed draft Regional Standard for Zaatar;

• Discussion paper on a Standard for Camel Milk; and

• Draft Strategic Plan for CCNEA 2015-2020.

Responsible Agency: USDA/FSIS/USCO.

U.S. Participation: No.

Coordinating Committee for North America and the South West Pacific (CCNASWP)

The Committee (CCNASWP) will convene its 14th Session in Port Vila Vanuatu, September 19-22, 2016.

The Committee will discuss the following items:

• Keynote address on the Multi-Sectorial Aspects of Codex and Opportunities for Strengthening Codex as a means to contribute to development of the economic, trade, agriculture, health, and nutrition sectors;

• Food safety and quality situation in the countries of the region;

• Prioritization of the needs of the region and possible approaches to address them;

• Use of Codex standards in the region: relevance of existing regional standards and need for new standards;

• Matters arising from the Codex Alimentarius Commission other Codex Committees;

• Codex work relevant to the region;

• Monitoring of the implementation of the Codex Strategic Plan (Strategic Plan for CCNASWP 2014-2019, Status of implementation);

• Proposed draft Regional Standard for Fermented Noni Juice;

• Discussion paper on the development of a Regional Standard for kava product that can be used as a beverage when mixed with water; and

• Nomination of the Coordinator.

Responsible Agency: USDA/FSIS/USCO.

U.S. Participation: Yes.

Contact

U.S. Codex Office, United States Department of Agriculture, Room 4861, South Agriculture Building, 1400 Independence Avenue SW., Washington, DC 20250-3700, Phone: (202) 205-7760, Fax: (202) 720-3157, Email: uscodex@fsis.usda.gov.

Attachment 2

U.S. Codex Alimentarius Officials

Codex Chairpersons From The United States

Codex Committee on Food Hygiene

Emilio Esteban, DVM, MBA, MPVM, Ph.D., Executive Associate for Laboratory Services, Office of Public Health Science, Food Safety and Inspection Service,U.S. Department of Agriculture, 950 College Station Road, Athens, GA 30605, Phone: (706) 546-3429, Fax: (706) 546-3428, Email: emilio.esteban@fsis.usda.gov.

Codex Committee on Processed Fruits and Vegetables

Richard Boyd, Chief, Contract Services Branch, Specialty Crops Program, Fruit and Vegetable Program, Agricultural Marketing Service, U.S. Department of Agriculture, 1400 Independence Avenue SW., Mail Stop 0247, Room 0726—South Building, Washington, DC 20250, Phone: (202) 690-1201, Fax: (202) 690-1527, Email: richard.boyd@ams.usda.gov.

Codex Committee on Residues of Veterinary Drugs in Foods

Kevin Greenlees, Ph.D., DABT, Senior Advisor for Science & Policy, Office of New Animal Drug Evaluation, HFV-100, Center for Veterinary Medicine, U.S. Food and Drug Administration, 7500 Standish Place, Rockville, MD 20855, Phone: +1 (240) 402-0638, Fax: +1 (240) 276-9538, kevin.greenlees@fda.hhs.gov.

U.S. Delegates and Alternate Delegates

General Subject Committees

Commodity Committees (Active and Adjourned)

ad hoc Task Forces

Regional Coordinating Committees

Worldwide General Codex Subject Committees

Contaminants in Foods (Host Government—The Netherlands)

U.S. Delegate

Dr. Lauren Posnick Robin, Branch Chief, Plant Products Branch, Division of Plant Products and Beverages, Office of Food Safety (HFS-317), Center for Food Safety and Applied Nutrition, U.S. Food and Drug Administration, 5100 Paint Branch Parkway, College Park, MD 20740, Phone: +1 (240) 402-1369, Lauren.Robin@fda.hhs.gov.

Alternate Delegate

Terry Dutko, Laboratory Director, Food Safety and Inspection Service, OPHS, 4300 Goodfellow Building, 105D Federal, St. Louis, MO 63120-0005, Phone: +1 (314) 263-2680 Ext. 344, Terry.Dutko@fsis.usda.gov.

Food Additives (Host Government—China)

U.S. Delegate

Susan E. Carberry, Ph.D., Supervisory Chemist, Division of Petition Review, Office of Food Additive Safety (HFS-265), Center for Food Safety and Applied Nutrition, U.S. Food and Drug Administration, 5100 Paint Branch Parkway, College Park, MD 20740, Phone: +1 (240) 402-1269, Fax: +1 (301) 436-2972, Susan.Carberry@fda.hhs.gov.

Alternate Delegate

Paul S. Honigfort, Ph.D., Consumer Safety Officer, Division of Food Contact Notifications (HFS-275), Office of Food Additive Safety, U.S. Food and Drug Administration, 5100 Paint Branch Parkway, College Park, MD 20740, Phone: +1 (240) 402-1206, Fax: +1 (301) 436-2965, Paul.Honigfort@fda.hhs.gov.

Food Hygiene (Host Government—United States)

U.S. Delegate

Jenny Scott, Senior Advisor, Office of Food Safety, Center for Food Safety and Applied Nutrition, U.S. Food and Drug Administration, 5100 Paint Branch Parkway, HFS-300, Room 3B-014, College Park, MD 20740-3835, Phone: +1 (240) 402-2166, Fax: +1 (301) 436-2632, Jenny.Scott@fda.hhs.gov.

Alternate Delegates

Andrew Chi Yuen Yeung, Ph.D., Consumer Safety Officer, CFSAN, U.S. Food and Drug Administration, 5100 Paint Branch Parkway, HFS-316, College Park, MD 20740, United States of America, Phone: +1 (240) 402-1541, Fax: +1 (301) 436-2632, Andrew.Yeung@fda.hhs.gov.

Dan Engeljohn, Ph.D., Assistant Administrator, Office of Policy and Program Development, Food Safety and Inspection Service, Jamie Whitten Building, Room 349-E, 1400 Independence Avenue SW., Washington, DC 20520, Phone: +1 (202) 720-8803, Fax: +1 (202) 720-3157, Daniel.Engeljohn@fsis.usda.gov.

Food Import and Export Certification and Inspection Systems (Host Government—Australia)

U.S. Delegate

Mary Stanley, Director, Office of International Coordination, Food Safety and Inspection Service, U.S. Department of Agriculture, Room 2925, South Agriculture Building, 1400 Independence Avenue SW., Washington, DC 20250, Phone: +1 (202) 720-0287, Fax: +1 (202) 720-4929, Mary.Stanley@fsis.usda.gov.

Alternate Delegate

Vacant

Food Labelling (Host Government—Canada)

U.S. Delegate

Felicia B. Billingslea, Director, Food Labeling and Standards Staff, Office of Nutrition, Labeling, and Dietary Supplements, Center for Food Safety and Applied Nutrition, U.S. Food and Drug Administration, 5100 Paint Branch Parkway (HFS-820), College Park, MD 20740, Phone: +1 (240) 402-2371, Fax: +1 (301) 436-2636, Felicia.Billingslea@fda.hhs.gov.

Alternate Delegate

Jeffrey Canavan, Deputy Director, Labeling and Program Delivery Staff, Food Safety and Inspection Service, U.S. Department of Agriculture, 1400 Independence Avenue SW., Mail Stop 5273, Patriots Plaza 3, 8th Floor-161A, Washington, DC 20250, Phone: +1 (301) 504-0860, Fax: +1 (202) 245-4792, Jeff.Canavan@fsis.usda.gov.

General Principles (Host Government—France)

Delegate Note: A member of the Steering Committee heads the delegation to meetings of the General Principles Committee.

Methods of Analysis and Sampling (Host Government—Hungary)

U.S. Delegate

Gregory Noonan, Director, Division of Bioanalytical Chemistry, Division of Analytical Chemistry, Center for Food Safety and Applied Nutrition, Food and Drug Administration, 5100 Paint Branch Parkway, College Park, MD 20740, Phone: +1 (240) 402-2250, Fax: +1 (301) 436-2332, Gregory.Noonan@fda.hhs.gov.

Alternate Delegate

Timothy Norden, Ph.D., Chief Scientist, Grain Inspection, Packers and Stockyards Administration (GIPSA) Technology & Science Division, U.S. Department of Agriculture, 10383 N. Ambassador Dr., Kansas City, MO 64153, USA, Phone: +1 (816) 891-0470, Fax: +1 (816) 891-8070, Timothy.D.Norden@gipsa.usda.gov.

Nutrition and Foods for Special Dietary Uses

(Host Government—Germany)

U.S. Delegate

Vacant.

Alternate Delegate

Pamela R. Pehrsson, Ph.D., Research Leader, USDA, Agricultural Research Service, Nutrient Data Laboratory, Room 105, Building 005, BARC-West, 10300 Baltimore Avenue, Beltsville, MD 20705, 301.504.0630 (voice), 301.504.0632, (fax), Pamela.Pehrsson@ars.usda.gov.

Pesticide Residues

(Host Government—China)

U.S. Delegate

David Miller, Chief, Chemistry & Exposure Branch and Acting Chief, Toxicology & Epidemiology Branch, Health Effects Division, William Jefferson Clinton Building, 1200 Pennsylvania Avenue NW., Washington, DC 20460, Phone: +1 (703) 305-5352, Fax: +1 (703) 305-5147, Miller.Davidj@epa.gov.

Alternate Delegate

Dr. Pat Basu, Senior Leader, Chemistry, Toxicology & Related Sciences, Office of Public Health Science, Food Safety and Inspection Service, U.S. Department of Agriculture, 1400 Independence Ave. SW., Room 3805, Washington, DC 20250-3766, Phone: +1 (202) 690-6558, Fax: +1 (202) 690-2364, Pat.Basu@fsis.usda.gov.

Residues of Veterinary Drugs in Foods

(Host Government—United States)

U.S. Delegate

Brandi Robinson, MPH, CPH, ONADE International Coordinator, Center for Veterinary Medicine, U.S. Food and Drug Administration, 7500 Standish Place, HFV-100, Rockville, MD 20855, Phone: +1 (240) 402-0645, Brandi.Robinson@fda.hhs.gov.

Alternate Delegate

Dr. Charles Pixley, DVM, Ph.D., Director, Laboratory Quality Assurance Staff, Office of Public Health Science, Food Safety and Inspection Service, U.S. Department of Agriculture, 950 College Station Road, Athens, GA 30605, Phone: +1 (706) 546-3559, Fax: +1 (706) 546-3453, Charles.Pixley@fsis.usda.gov.

Worldwide Commodity Codex Committees (Active)

Fats and Oils

(Host Government—Malaysia)

U.S. Delegate

Dr. Paul South, Director, Division of Plant Products and Beverages, Office of Food Safety (HFS-317), Center for Food Safety and Applied Nutrition, U.S. Food and Drug Administration, 5100 Paint Branch Parkway, College Park, MD, USA 20740-3835, Phone: +1 (240) 402-1640, Fax: +1 (301) 436-2632, Paul.South@fda.hhs.gov.

Alternate Delegate

Robert A. Moreau, Ph.D., Research Leader, Eastern Regional Research Center, Agricultural Research Service, U.S. Department of Agriculture, 600 East Mermaid Lane, Wyndmoor, PA 19038, Phone: +1 (215) 233-6428, Fax: +1 (215) 233-6406, Robert.Moreau@ars.usda.gov.

Cereals, Pulses & Legumes

(Host Government—United States)

U.S. Delegate

Vacant.

Alternate Delegate

Mr. Patrick McCluskey, Supervisory Agricultural Marketing Specialist, United States Department of Agriculture, Grain Inspection, Packers and Stockyards Administration, 10383 N. Ambassador Drive, Kansas City, MO 64153, Phone: +1 (816) 659-8403, Patrick.J.Mccluskey@usda.gov.

Fish and Fishery Products

(Host Government—Norway)

U.S. Delegate

Dr. William Jones, Deputy Director, Division of Seafood Safety, Office of Food Safety (HFS-325), U.S. Food and Drug Administration, 5100 Paint Branch Parkway, College Park, MD 20740, Phone: +1 (240) 402-1700, Fax: +1 (301) 436-2601, William.Jones@fda.hhs.gov.

Alternate Delegate

Steven Wilson, Deputy Director, Office of International Affairs and Seafood Inspection, National Marine Fisheries Service, NOAA, U.S. Department of Commerce, 1315 East-West Highway, Silver Spring, Maryland 20910, Phone: +1 (301) 427-8312, Steven.Wilson@noaa.gov.

Fresh Fruits and Vegetables

(Host Government—Mexico)

U.S. Delegate

Dorian LaFond, International Standards Coordinator, Fruit and Vegetables Program, Specialty Crop Inspection Division, Agricultural Marketing Service, U.S. Department of Agriculture, Mail Stop 0247, South Agriculture Building, 1400 Independence Avenue SW., Washington, DC 20250-0247, Phone: +1 (202) 690-4944, Fax: +1 (202) 690-1527, Dorian.Lafond@usda.gov.

Alternate Delegate

Samir K. Assar, Ph.D., Director, Produce Safety Staff, Office of Food Safety, Food and Drug Administration, Phone: +1 (240) 402-1636, Samir.Assar@fda.hhs.gov.

Milk and Milk Products

(Host Government—New Zealand)

U.S. Delegate

Christopher Thompson, Dairy Standardization Branch, Stop 0230, Room 2742, Agricultural Marketing Service, U.S. Department of Agriculture, 1400 Independence Avenue SW., Washington, DC 20250, Phone: +1 (202) 720-9382, Fax: +1 (202) 720-2643, Christopher.D.Thompson@ams.usda.gov.

[FR Doc. 2016-15632 Filed 6-29-16; 8:45 am]

BILLING CODE 3410-DM-P